DEPARTMENT OF THE TREASURY

Departmental Offices; Submission for OMB Review, Comment Request

May 21, 2014.

ACTION: Notice and request for comments.

SUMMARY: The Department of the Treasury, as part of its continuing effort to reduce paperwork and respondent burden, invites the general public and other Federal agencies to comment on one new proposed information collection, as required by the Paperwork Reduction Act of 1995, Public Law 104-13 (44 U.S.C. 3506(c)(2)(A)). The Treasury is soliciting comments concerning a proposed generic information collection that will allow the Treasury to conduct research that will serve to inform the development of and assess the effectiveness of strategies to increase access to financial services and to enhance financial decision-making skills.

DATES: Written comments should be received on or before July 28, 2014 to be assured of consideration.

ADDRESSES: Comments regarding these information collections should be addressed to the Treasury Office of Consumer Policy Contact listed below and to the Treasury Department PRA Clearance Officer, Department of the Treasury, Room 11000, 1750 Pennsylvania Avenue NW., Washington, DC 20220.

FOR FURTHER INFORMATION CONTACT: Copies of the submission(s) may be obtained by contacting James Gatz, Policy Analyst, Office of Consumer Policy, Room 1426, U.S. Treasury Department, 1500 Pennsylvania Avenue NW., Washington, DC 20228, by telephone at 202-622-3946, or by email at James.Gatz@Treasury.gov.

SUPPLEMENTARY INFORMATION:

Title: Generic Clearance for Treasury Financial Empowerment and Innovation Research Projects.

OMB Control Number: NEW.

Abstract: As many of the activities will use identical methodologies or otherwise share a common element, the Treasury Office of Consumer Policy (OCP) requests OMB approval for generic clearance to conduct various information collection activities using qualitative and survey methods including focus groups, interviews, in-person and on-line surveys of individuals, financial institutions and other organizations and state, local and tribal governments. Over the next three years, the OCP anticipates undertaking a variety of new information collection activities related to OCP's functions to expand the level of understanding and knowledge about financial products and services, the availability of products and services for individuals and families, and the ability of individuals and households to make informed financial decisions. Following standard OMB requirements, for each information collection that OCP proposes to undertake under this generic clearance, the OMB will be notified at least two weeks in advance and provided with a copy of the information collection instrument along with supportive materials. The OCP will only undertake a new collection if the OMB does not object to the OCP's proposal.

Type of Review: New Collection.

Affected Public: Individuals and households, businesses and organizations, State, Local or Tribal governments.

Respondent's Obligation: Voluntary.

Estimated Number of Respondents: Approximately 50,000 per year.

Estimated Average Time per Respondent: 20—30 minutes per response.

Estimated Total Annual Burden Hours: Approximately up to 25,000 burden hours.

Request for Comments: Comments submitted in response to this notice will be summarized and/or included in the request for Office of Management and Budget approval. All comments will become a matter of public record. Comments are invited on: (a) Whether the proposed collection of information is necessary for the proper performance of the functions of the OCP, including whether the information will have practical utility; (b) the accuracy of the above estimate of the burden of the proposed information collection; (c) ways to enhance the quality, utility, and clarity of the information to be collected; and (d) ways to minimize the burden of the collection on respondents, including the use of automated collection techniques or other forms of information technology.

Robert Dahl,
Treasury PRA Clearance Officer.

[FR Doc. 2014-12116 Filed 5-23-14; 8:45 am]

BILLING CODE 4810-25-P